DEPARTMENT OF HEALTH AND HUMAN SERVICES

Office of the Secretary

Delegation of Authorities

Notice is hereby given that I have delegated to the Commissioner of Food and Drugs (the Commissioner) those authorities vested in the Secretary of the Department of Health and Human Services under sections 1002; 1003; 1004; 1005(f); and 1006(b) and (d) of the Food and Drug Administration Amendments Act of 2007 (Pub. L. 110-85), which relate to the functions of the Food and Drug Administration.

This authority may be re-delegated. This delegation will be exercised in accordance with the Department of Health and Human Services' applicable policies, procedures, guidelines, and regulations.

I ratify and affirm any actions taken by the Commissioner or the Commissioner's subordinates that involved the exercise of the authority delegated herein prior to the effective date of this delegation. This delegation was effective on November 17, 2015.

Dated: July 27, 2016.
Sylvia M. Burwell,
Secretary.

[FR Doc. 2016-18417 Filed 8-2-16; 8:45 am]

BILLING CODE P